DEPARTMENT OF LABOR

Employment and Training Administration

[TA-W-37,109]

DMI Furniture, Inc., Plant #4, Ferdinand, Indiana; Notice of Revised Determination on Reopening

By letter of February 4, 2000, the United Steelworkers of America, District 7, Sub District 3, Indianapolis, Indiana, requested administrative reconsideration of the Department's negative determination applicable to workers of the subject firm. In the meantime, the Department obtained information relevant to the petition investigation. Consequently, the petition investigation for workers of DMI Furniture, Inc. Plant #4, Ferdinand, Indiana was reopened.

The initial investigation resulted in a negative determination issued on January 26, 1999, based on the finding that criterion (3) of Section 222 of the Trade Act was not met. The separation of workers at the Ferdinand, Indiana plant of the subject firm was attributable to the shift in production of commercial office furniture to other domestic facilities of DMI, Furniture, Inc.

New information obtained on reopening shows that a major declining customer of the subject firm has increased its reliance on imports of commercial office furniture.

Conclusion

After careful review of the additional facts obtained on reopening, I conclude that increased imports of articles like or directly competitive with commercial office furniture contributed importantly to the declines in sales or production and to the total or partial separation of workers of DMI Furniture, Inc., Ferdinand, Indiana. In accordance with the provisions of the Act, I make the following revised determination:

“All workers of DMI Furniture, Inc., Plant #4, Ferdinand, Indiana, who became totally or partially separated from employment on or after November 9, 1998, through two years from the date of this issuance are eligible to apply for worker adjustment assistance under Section 223 of the Trade Act of 1974.”

Signed in Washington, D.C. this 8th day of February 2000.
Grant D. Beale,
Program Manager, Division of Trade Adjustment Assistance.

[FR Doc. 00-4132 Filed 2-18-00; 8:45 am]

BILLING CODE 4510-30-M